DEPARTMENT OF TRANSPORTATION

Federal Aviation Administration

Notice of Intent To Request Renewal From the Office of Management and Budget (OMB) of Six Current Public Collections of Information

AGENCY: Federal Aviation Administration (FAA), DOT.

ACTION: Notice.

SUMMARY: In compliance with the Paperwork Reduction Act (44 U.S.C 3501 et seq.), the FAA invites public comment on six currently approved public information collections which will be submitted to OMB for renewal.

DATES: Comments must be received on or before December 16, 2002.

ADDRESSES: Comments must be mailed or delivered to the FAA at the following address: Ms. Judy Street, Room 613, Federal Aviation Administration, Standards and Information Division, APF-100, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following current collections of information in order to evaluate the necessity of the collection, the accuracy of the agency's estimate of the burden, the quality, utility, and clarity of the information to be collected, and possible ways to minimize the burden of the collection in preparation for submission to renew the clearances of the following information collections.

1. 2120-0026, Domestic and International Flight Plans. Title 49 U.S.C., paragraph 40103(b) authorizes regulations governing the flight of the aircraft. 14 CFR 91 prescribes requirements for filing domestic and international flight plans. The information is collected to provide services to aircraft inflight and protection of persons and property of the ground. The current estimated annual reporting burden is 293,072 hours.

2. 2120-0039, Operating Requirements: Commuter and On-Demand Operation—14 CFR Part 135. Title 49 U.S.C., Section 44702, authorizes the issuance of air carrier operating certificates, 14 CFR Part 135 prescribes requirements for Air Carrier/Commercial Operators. The information collected shows compliance and applicant eligibility for these operating certificates. The current estimated annual reporting burden is 1,128,904 hours.

3. 2120-0043, Recording of Aircraft Conveyances and Security Documents. Title 49, U.S.C., Section 44108 provides for establishing and maintaining a system for recording of security conveyances affecting title to, or interest in, U.S. civil aircraft, as well as certain specifically identified engines, propellers, or spare parts locations, and for recording of releases relating to those conveyances. The information collected is used to ensure proper compliance with the provisions of this regulation and to ensure that the national air transportation system is secure. The current estimated annual reporting burden is 55,406 hours.

4. 2120-0606, Fleet and Operations Reporting: Grand Canyon National Park. The information is needed to establish accurate information on overflights of Grand Canyon National Park for noise and safety management purposes, validate noise models for use in mitigation studies, determine when and where noise mitigation is required, and provide the basis for a flexible and adaptable noise management system. The current estimated annual reporting burden is 48 hours.

5. 2120-0608, Commercial Space Transportation Licensing Regulations. The required information is used to determine if applicant proposals for conducting commercial space launches can be accomplished in a safe manner according to regulations and license orders by the Office of the Associate Administrator for Commercial Space Transportation. The current estimated annual reporting burden is 3,236 hours.

6. 2120-0652, Changes in Permissible Stage 2 Airplane Operations. The information collected is used by the FAA to issue special flight authorization for nonrevenue operations of Stage 2 airplanes at U.S. Airports. Since this information is voluntarily submitted, operators only need to provide information when they need a special flight authorization. The current estimated annual reporting burden is 25 hours.

Issued in Washington, DC, on October 8, 2002.
Judith D. Street,
FAA Information Collection Clearance Officer, APF-100.

[FR Doc. 02-26279 Filed 10-15-02; 8:45 am]

BILLING CODE 4910-13-M